DEPARTMENT OF ENERGY

Federal Energy Regulatory Commission

[Docket Nos. CP17-40-000]

Spire STL Pipeline, LLC; Notice of Request for Extension of Time

Take notice that on May 27, 2020, Spire STL Pipeline, LLC (Spire) requested that the Federal Energy Regulatory Commission (Commission) grant an extension of time, until August 3, 2021, to construct and place into service a section of 24-inch diameter pipeline to the Enable Mississippi Transmission, LLC (MRT) interconnect which is part of the original certificate authorization issued on August 3, 2018 (Certificate Order). The Certificate Order required Spire to construct and place the facilities in service by August 3, 2020.

In November 2019, Spire requested and the Commission authorized Spire to place most of the project facilities into service including the Mainline, North County Extension, Rex Receipt Station and the Laclede/Lange and Chain of Rocks Delivery Stations. At that time, Spire explained that with respect to the section of 24-inch-diameter pipeline to the MRT interconnect, that it would construct this remaining section of pipeline in the spring of 2020. Spire states that it does not anticipate completing construction of the MRT interconnect due to COVID-19 pandemic related construction delays. In order to allow enough time for the safe completion of construction and to account for uncertainty regarding future COVID related restrictions, Spire requests an extension of time until August 3, 2021 to complete construction of this final section of pipeline.

This notice establishes a 15-calendar day intervention and comment period deadline. Any person wishing to comment on Spire's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).¹

¹ Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act.⁵ At the time a pipeline requests an extension of time, orders on certificates of public convenience and necessity are final and the Commission will not re-litigate their issuance.⁶ The OEP Director, or his or her designee, will act on all of those extension requests that are uncontested.

² Contested proceedings are those where an intervenor disputes any material issue of the filing. 18 CFR 385.2201(c)(1) (2019).

³ Algonquin Gas Transmission, LLC, 170 FERC 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC 61,144, at P 40 (2020).

In addition to publishing the full text of this document in the Federal Register, The Commission provides all interested persons an opportunity to view and/or print the contents of this document via the internet through the Commission's Home Page (http://www.ferc.gov) using the eLibrary link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the eFiling link at http://www.ferc.gov. Persons unable to file electronically should submit an original and three copies of the protest or intervention to the Federal Energy Regulatory Commission, 888 First Street NE, Washington, DC 20426.

Comment Date: 5:00 p.m. Eastern Time on June 16, 2020.

Dated: June 1, 2020.
Nathaniel J. Davis, Sr.,
Deputy Secretary.

[FR Doc. 2020-12235 Filed 6-4-20; 8:45 am]

BILLING CODE 6717-01-P